DEPARTMENT OF STATE

[Public Notice: 10130]

Certification Related to Foreign Military Financing for Colombia Under Section 7045(b)(6) of the Department of State, Foreign Operations, and Related Programs Appropriations Act, 2017

Pursuant to the authority vested in the Secretary of State, including under section 7045(b)(6) of the Department of State, Foreign Operations, and Related Programs Appropriations Act, 2017 (Div. J, Pub. L. 115-31) I hereby certify and report that:

(1) The Peace Tribunal and other judicial bodies within the special jurisdiction for peace are independent and have authority to document “truth declarations” from perpetrators of gross violations of human rights and to sentence such perpetrators to meaningful sanctions, including victims' reparations, guarantee of non-repetition, and deprivation of liberty;

(2) Military personnel responsible for ordering, committing, or covering up cases of false positives, including those in command authority, are being investigated, prosecuted, and appropriately sanctioned, and military officers credibly alleged to have committed such crimes are removed from positions of command authority until the completion of judicial proceedings; and

(3) The Government of Colombia is continuing to dismantle illegal armed groups, taking effective steps to protect the rights of human rights defenders, journalists, trade unionists, and other social activists, and protecting the rights and territory of indigenous and Afro-Colombian communities.

This Certification shall be published in the Federal Register and, along with the accompanying Report and Memorandum of Justification, shall be transmitted to the appropriate committees of Congress.

Dated: September 11, 2017.
Rex W. Tillerson,
Secretary of State.

[FR Doc. 2017-19837 Filed 9-15-17; 8:45 am]

BILLING CODE 4710-29-P